DEPARTMENT OF ENERGY

Federal Energy Regulatory Commission

[Docket No. EL01-10-000, et al.]

Puget Sound Energy, Inc., v. All Jurisdictional Sellers of Energy and/or Capacity at Wholesale Into Electric Energy and/or Capacity, Markets in the Pacific Northwest, Including Parties to the Western Systems Power Pool Agreement; Notice of Designation of Certain Commission Personnel as Non-Decisional

Commission staff member Aaron Siskind, of the Office of Energy Market Regulation, was previously assigned to settlement and litigation proceedings in the above-referenced dockets when he worked for the Office of Administrative Litigation.

As non-decisional staff, Mr. Siskind will not participate in an advisory capacity in the Commission's review of any future filings in the above-referenced dockets, including offers of settlement or settlement agreements.

Mr. Siskind will not be assigned as advisory staff to review and process subsequent filings that are made in the above-referenced dockets, including any offer of settlement or settlement agreement. Non-decisional staff and advisory staff are prohibited from subsequent communications with one another concerning matters in the above-referenced dockets.

Dated: March 28, 2012.
Kimberly D. Bose,
Secretary.

[FR Doc. 2012-8021 Filed 4-3-12; 8:45 am]

BILLING CODE 6717-01-P